DEPARTMENT OF THE INTERIOR

Bureau of Land Management

Dakotas Advisory Council Meeting; Notice of Meeting

AGENCY: Bureau of Land Management, North Dakota Field Office, Interior.

SUMMARY: A meeting of the Dakotas Resource Advisory Council will be held March 26 & 27, 2001, at the Spearfish Canyon Resort, Savoy, South Dakota. The session will convene at 8 a.m. on March 26th and resume at 8 a.m. on the 27th. Agenda items will include Off Highway Vehicles, Homestake Exchange, Endangered Species (sage grouse and prairie dogs), Outfitting by FS and BLM, Fire and Fuel Reductions and Native American Consultation.

The meeting is open to the public and a public comment period is set for 8 a.m. on March 27th. The public may make oral statements before the Council or file written statements for the Council to consider. Depending on the number of persons wishing to make an oral statement, a per-person time limit may be established. Summary minutes of the meeting will be available for public inspection and copying.

The 15-member Council advises the Secretary of the Interior, through the BLM, on a variety of planning and management issues associated with public land management in the Dakotas.

FOR FURTHER INFORMATION CONTACT: Patrick Gubbins, Field Office Manager, South Dakota Field Office, 310 Roundup St., Belle Fourche, South Dakota. Telephone (605) 892-7000.

Dated: February 1, 2001.
Patrick Gubbins,
Field Office Manager.

[FR Doc. 01-5476 Filed 3-6-01; 8:45 am]

BILLING CODE 4310-84-P